DEPARTMENT OF TRANSPORTATION

Federal Aviation Administration

RTCA Special Committee 205/EUROCAE Working Group 71: Software Considerations in Aeronautical Systems Seventh Joint Meeting

AGENCY: Federal Aviation Administration (FAA), DOT.

ACTION: Notice of RTCA Special Committee 205/EUROCAE Working Group 71 meeting.

SUMMARY: The FAA is issuing this notice to advise the public of a meeting of RTCA Special Committee 205/EUROCAE Working Group 71: Software Considerations in Aeronautical Systems.

DATES: The meeting will be held January 14-18, 2008, from 8:30 a.m.-5 p.m. (variable—see daily schedule).

ADDRESSES: The meeting will be held at Sheraton Wall Centre, 1088 Burrard Street, Vancouver, British Columbia, Canada, V62ZR9.

FOR FURTHER INFORMATION CONTACT:

(1) RTCA Secretariat, 1828 L Street, NW., Suite 805, Washington, DC 20036; telephone (202) 833-9339; fax (202) 833-9434; Web site http://www.rtca.org; (2) Joint Secretaries, Europe: Mr. Ross Hannon, telephone +44 78807-46650, e-mail: ross_hannon@binternet.com; US: Mr. Michael DeWalt, telephone (206) 972-0170, e-mail: mike.dewalt@certification.com.

SUPPLEMENTARY INFORMATION: Pursuant to section 10(a)(2) of the Federal Advisory Committee Act (Pub. L. 92-463, 5 U.S.C., Appendix 2), notice is hereby given for a Special Committee 205/EUROCAE Working Group 71 meeting.

Note: On Arrival: A valid passport is required for entry into Canada, including U.S. Citizens. On arrival at the Sheraton Wall Centre, please have photo identification available (either a passport, a driver's license bearing a photograph or an identity card) to assist in your pass being issued.

• January 14:

• Registration.

• New Attendees Introductory Session.

• Sub-Group Meetings.

• Cast Meetings (Closed).

• Executive Committee and SG Chairs/Secretaries Meeting.

• January 15:

• Plenary: Chairman's Introductory Remarks and Introductions.

• Review of Meetings Agenda and Agreement of Previous Minutes.

• Issue List Status Report.

• Sub-Groups Report In and Q&A Session.

• Liaison Reports: CAST; WG-63/SAE S-18: Revision of SAE ARP 4754 & ARP 4761; SC-203; SC-216.

• Text Development, Submittal & Approval Process Review.

• Sub-Group Meetings.

• Executive Committee and SG Chairs/Secretaries Meeting.

• January 16:

• Plenary Text Approval.

• Sub-Group Meetings Commence Immediately after Plenary.

• CAST Meeting (Closed).

• Executive Committee and SG Chairs/Secretaries Meetings.

• January 17:

• Plenary.

• Sub-Group Meetings.

• Sub-Group Meetings or Mandatory Paper Reading Session.

• Executive Committee and SG Chairs/Secretaries Meetings.

• January 18:

• Chairman's Introductory Remarks

• Plenary Text Approval.

• Sub-Groups Report Out.

• SG3: Tool Qualification Sub-Group.

• Closing Plenary Session (Other Business, Schedule Meeting, Closing Remarks, Adjourn).

Attendance is open to the interested public but limited to space availability. With the approval of the chairmen, members of the public may resent oral statements at the meeting. Persons wishing to present statements or obtain information should contact the person listed in the FOR FURTHER INFORMATION CONTACT section. Members of the public may present a written statement to the committee at any time.

Issued in Washington, DC, on November 16, 2007.
Francisco Estrada C.,
RTCA Advisory Committee.

[FR Doc. 07-5805 Filed 11-23-07; 8:45 am]

BILLING CODE 4910-13-M